DEPARTMENT OF THE INTERIOR

Bureau of Land Management

[A2407-014-004-065516; #O2412-014-004-047181.1]

Notice of Filing of Plat of Survey; Arizona

AGENCY: Bureau of Land Management, Interior.

ACTION: Notice of official filing.

SUMMARY: This notice is to inform the public of the official filing of the plat of survey of the land described below in the Bureau of Land Management (BLM) Arizona State Office in Phoenix, Arizona. The survey announced in this notice is necessary for the management of lands administered by the agency indicated.

DATES: Protests must be received by the BLM prior to the scheduled date of official filing by September 8, 2025.

ADDRESSES: This plat will be available for inspection in the Arizona State Office, Bureau of Land Management, One North Central Avenue, Suite 800, Phoenix, Arizona 85004-4427. Protests of the survey should be sent to the Arizona State Director at the above address.

FOR FURTHER INFORMATION CONTACT: R. Reece Henry, Acting Chief Cadastral Surveyor of Arizona; (480) 744-5242; rrhenry@blm.gov. Persons who use a telecommunications device for the deaf (TDD) may call the Federal Relay Service (FRS) at 711 to leave a message or question for the above individual. The FRS is available 24 hours a day, 7 days a week. You will receive a reply during normal business hours.

SUPPLEMENTARY INFORMATION:

The Gila and Salt River Meridian, Arizona

The supplemental plat, in one sheet, showing the amended lotting in section 3, Township 2 South, Range 1 West, accepted June 16, 2025, and officially filed June 18, 2025, for Group 9121, Arizona.

This plat was prepared at the request of the Bureau of Indian Affairs.

A person or party who wishes to protest against this survey must file a written notice of protest by the date listed in the DATES section above with the BLM Arizona State Director at the address listed in the ADDRESSES section above.

A statement of reasons for a protest may be filed with the notice of protest to the State Director, or the statement of reasons must be filed with the State Director within 30-calendar days after the protest is filed.

Before including your address, or other personally identifiable information in your protest, please be aware that your entire protest, including your personally identifiable information, may be made publicly available at any time. While you can ask us in your comment to withhold your personally identifiable information from public review, we cannot guarantee that we will be able to do so.

Authority: 43 U.S.C. chap. 3.

Riley R. Henry,
Acting Chief Cadastral Surveyor of Arizona.

[FR Doc. 2025-15137 Filed 8-7-25; 8:45 am]

BILLING CODE 4331-12-P